DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by February 13, 2006.

ADDRESSES: Written data or comments should be submitted to the Assistant Regional Director—Ecological Services, U.S. Fish and Wildlife Service, P.O. Box 25486, Denver Federal Center, Denver, Colorado 80225-0486; facsimile 303-236-0027.

Availability of Documents: Documents and other information submitted with these applications are available for review, subject to the requirements of the Privacy Act [5 U.S.C. 552A] and Freedom of Information Act [5 U.S.C. 552], by any party who submits a request for a copy of such documents within 20 days of the date of publication of this notice to Kris Olsen, by mail (see ADDRESSES) or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicant: TE-115137, Kitty Roberts, National Park Service, Glen Canyon National Recreation Area, Page, Arizona. The applicant requests a permit to display Bonytails (Gila elegans), Colorado pikeminnows (Ptychocheilus lucius), Humpback chubs (Gila cypha), and Razorback suckers (Xyrauchen texanus) in conjunction with recovery activities for the purpose of enhancing their survival and recovery.

Applicant: TE-038221, Mark Peyton, Central Nebraska Public Power and Irrigation District, Gothenburg, Nebraska. The applicant requests a renewed permit to take American burying beetles (Nicrophorus americanus) and Interior least terns (Sterna antillarum) in conjunction with recovery activities throughout the species' range for the purpose of enhancing their survival and recovery.

Applicant: TE-038970, Bill Krise, U.S. Fish and Wildlife Service, Bozeman Fish Technology Center, Bozeman, Montana. The applicant requests a renewed permit to take Pallid sturgeons (Scaphirhynchus albus) and June suckers (Chasmistes liorus) in conjunction with recovery activities throughout the species' range for the purpose of enhancing their survival and recovery.

Applicant: TE-039100, Rockford Plettner, Nebraska Public Power District, Columbus, Nebraska. The applicant requests a renewed permit to take Interior least terns (Sterna antillarum athalassos) in conjunction with recovery activities throughout the species' range for the purpose of enhancing their survival and recovery.

Applicant: TE-040241, Roger Boyd, Baker University, Baldwin City, Kansas. The applicant requests a renewed permit to take Interior least terns (Sterna antillarum) in conjunction with recovery activities throughout the species' range for the purpose of enhancing their survival and recovery.

Applicant: TE-040242, Harold Tyus, University of Colorado, Boulder, Colorado. The applicant requests a renewed permit to take Bonytails (Gila elegans), Colorado pikeminnows (Ptychocheilus lucius), Humpback chubs (Gila cypha), and Razorback suckers (Xyrauchen texanus) in conjunction with recovery activities throughout the species' range for the purpose of enhancing their survival and recovery.

Applicant: TE-040748, Randy Barker, Cheyenne Mountain Zoo, Colorado Springs, Colorado. The applicant requests a renewed permit to display Black-footed ferrets (Mustela nigripes) and Wyoming toads (Bufo baxteri) in conjunction with recovery activities for the purpose of enhancing their survival and recovery.

Applicant: TE-044780, Peter Smith, Smith Environmental, Broomfield, Colorado. The applicant requests a renewed permit to take Southwestern willow flycatchers (Empidonax traillii extimus) in conjunction with recovery activities throughout the species' range for the purpose of enhancing their survival and recovery.

Applicant: TE-044836, Melvin Coonrod, Environmental Industrial Services, Helper, Utah. The applicant requests a renewed permit to take Southwestern willow flycatchers (Empidonax traillii extimus) in conjunction with recovery activities throughout the species' range for the purpose of enhancing their survival and recovery.

Applicant: TE-047288, David Peitz, National Park Service, Republic, Missouri. The applicant requests a renewed permit to take Topeka shiners (Notropis topeka) in conjunction with recovery activities throughout the species' range for the purpose of enhancing their survival and recovery.

Applicant: TE-047381, Jim Friedley, Bureau of Indian Affairs, Ignacia, Colorado. The applicant requests a renewed permit to take Southwestern willow flycatchers (Empidonax traillii extimus) in conjunction with recovery activities throughout the species' range for the purpose of enhancing their survival and recovery.

Applicant: TE-047529, Stan Johnson, Colorado Division of Wildlife, Grand Junction, Colorado. The applicant requests a renewed permit to display Bonytails (Gila elegans), Colorado pikeminnows (Ptychocheilus lucius), Humpback chubs (Gila cypha), and Razorback suckers (Xyrauchen texanus) in conjunction with recovery activities for the purpose of enhancing their survival and recovery.

Applicant: TE-049748, Todd Crowl, Utah State University, Logan, Utah. The applicant requests a renewed permit to take June suckers (Chasmistes liorus) in conjunction with recovery activities throughout the species' range for the purpose of enhancing their survival and recovery.

Applicant: TE-051814, Dan Miller, Bramble Park Zoo, Watertown, South Dakota. The applicant requests a renewed permit to display Black-footed ferrets (Mustela nigripes) in conjunction with recovery activities for the purpose of enhancing their survival and recovery.

Applicant: TE-051835, Randy Riches, San Diego Wild Animal Park, Escondido, California. The applicant requests a renewed permit to display Black-footed ferrets (Mustela nigripes) in conjunction with recovery activities for the purpose of enhancing their survival and recovery.

Applicant: TE-051845, Rene Hodgekin, Zoo Montana, Billings, Montana. The applicant requests a renewed permit to display Black-footed ferrets (Mustela nigripes) in conjunction with recovery activities for the purpose of enhancing their survival and recovery.

Applicant: TE-051847, Richard Lattis, Wildlife Conservation Center, Central Park Zoo, New York, New York. The applicant requests a renewed permit to take Wyoming toads (Bufo baxteri) in conjunction with recovery activities throughout the species' range for the purpose of enhancing their survival and recovery.

Dated: December 27, 2005.
Mary G. Henry,
Acting Regional Director, Denver, Colorado.

[FR Doc. E6-304 Filed 1-12-06; 8:45 am]

BILLING CODE 4310-55-P